DEPARTMENT OF AGRICULTURE

Submission for OMB Review; Comment Request

April 25, 2006.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Farm Service Agency

Title: CRP Hunting Viewing Revenues Survey.

OMB Control Number: 0560-NEW.

Summary of Collection: The Farm Service Agency (FSA) on behalf of the Commodity Credit Corporation provides services to landowners under the Conservation Reserve Program (CRP), to help them conserve and improve soil, water and wildlife resources on their lands. Some landowners have used their lands enrolled in the CRP, to provide recreational activities (hunting, fishing, hiking, viewing and other activities) to outdoor recreationists. FSA will conduct the CRP Hunting and Wildlife Viewing Revenue Survey to determine how many landowners are providing any recreational activities on their lands and how it affects the CRP program plus the revenues generated by their activities.

Need and Use of the Information: FSA will collect information to find out how CRP participants are providing recreational activities on their lands, how such activities affects the CRP program and what revenues are generated by such activities. The collected information will also be used to estimate the value of enhanced wildlife populations on CRP lands to CRP landowners and to evaluate the benefits of the CRP programs.

Description of Respondents: Farms; business or other-for-profit.

Number of Respondents: 4,000.

Frequency of Responses: Reporting; Other (one-time survey).

Total Burden Hours: 333.

Ruth Brown,
Departmental Information Collection Clearance Officer.

[FR Doc. E6-6483 Filed 4-28-06; 8:45 am]

BILLING CODE 3410-05-P